DEPARTMENT OF ENERGY

Federal Energy Regulatory Commission

[Project Nos. 2085-014—California; 67-113; 120-020]

Southern California Edison; Notice of Availability of the Final Environmental Impact Statement for the Big Creek Projects

March 13, 2009.

In accordance with the National Environmental Policy Act of 1969 and the Federal Energy Regulatory Commission's (Commission) regulations, 18 CFR part 380 (Order No. 486, 52 FR 47897), the Office of Energy Projects has reviewed the applications for relicensing four Southern California Edison (SCE) projects, which are part of the Big Creek System: Mammoth Pool Project (FERC No. 2085); Big Creek Nos. 2A, 8 and Eastwood (FERC No. 67); Big Creek Nos. 1 and 2 (FERC No. 2175); and Big Creek No. 3 (FERC No. 120), located in Fresno and Madera Counties, California, and has prepared a final Environmental Impact Statement (final EIS) for the projects.

SCE's existing 865-megawatt Big Creek System includes the integrated operation of nine major powerhouses, six major reservoirs, numerous small diversions, various conveyance facilities, and electrical transmission lines, authorized under seven Commission licenses. The four projects evaluated in the draft EIS occupy about 6,870 acres of federal land administered by the U.S. Department of Agriculture, Forest Service, in the Sierra National Forest.

In the final EIS, staff evaluates the applicant's proposal and alternatives for relicensing the projects. The final EIS documents the views of governmental agencies, non-governmental organizations, affected Indian tribes, the public, the license applicant, and Commission staff.

Copies of the final EIS are available for review in the Commission's Public Reference Branch, Room 2A, located at 888 First Street, NE., Washington, DC 20426. The final EIS also may be viewed on the Internet at http://www.ferc.gov under the eLibrary link. Enter the docket number (P-067, P-2175, P-2085, or P-120) to access the document. For assistance, contact FERC Online Support at FERCOnlineSupport@ferc.gov or toll-free at 1-866-208-3676, or for TTY, (202) 502-8659.

CD versions of the final EIS have been mailed to everyone on the mailing list for the projects. Copies of the CD, as well as a limited number of paper copies, are available from the Public Reference Room identified above.

You may also register online at http://www.ferc.gov/docs-filing/esubscription.asp to be notified via e-mail of new filings and issuances related to these or other pending projects. For assistance, contact FERC Online Support.

For further information, contact James Fargo at (202) 502-6095 or at james.fargo@ferc.gov.

Kimberly D. Bose,
Secretary.

[FR Doc. E9-6074 Filed 3-19-09; 8:45 am]

BILLING CODE